DEPARTMENT OF DEFENSE

Office of the Secretary

[Docket ID: DOD-2011-OS-0055]

Defense Logistics Agency Revised Regulation 1000.22, Environmental Considerations in Defense Logistics Agency Actions

AGENCY: Defense Logistics Agency, Department of Defense.

ACTION: Comment Addressed on Notice of Availability (NOA) of Revised Defense Logistics Agency Regulation (DLAR) 1000.22, June 1, 1981.

SUMMARY: On May 18, 2011, the Defense Logistics Agency (DLA) published a Notice of Availability (NOA) in the Federal Register (76 FR 28757) announcing the revised Defense Logistics Agency Regulation (DLAR) 1000.22, which was available for a 30-day public comment period. DLA received one comment from the Navy stating that a citation within the technical support documentation should be changed. The change has been incorporated. DLAR 1000.22 will be signed into effect upon completion of this publication into the Federal Register.

Dated: August 22, 2011.
Aaron Siegel,
Alternate OSD Federal Register Liaison Officer, Department of Defense.

[FR Doc. 2011-21743 Filed 8-24-11; 8:45 am]

BILLING CODE 5001-06-P